GENERAL SERVICES ADMINISTRATION

[Notice-CECANF-2014-04; Docket No. 2014-0005; Sequence No. 4]

Commission To Eliminate Child Abuse and Neglect Fatalities; Announcement of Meeting

AGENCY: Commission to Eliminate Child Abuse and Neglect Fatalities.

ACTION: Meeting Notice.

SUMMARY: The Commission to Eliminate Child Abuse and Neglect Fatalities (CECANF), a Federal Advisory Committee established by the Protect Our Kids Act of 2012, Public Law 112-275, will hold a meeting open to the public on Thursday, August 28, 2014 in Plymouth, Michigan.

DATES: The meeting will be held on Thursday, August 28, 2014, from 8:00 a.m. to 4:30 p.m. Eastern Standard Time.

ADDRESSES: CECANF will convene its meeting at The Inn at St. John's, Grande Ballroom, 44045 Five Mile Road, Plymouth, Michigan 48170. This site is accessible to individuals with disabilities. The meeting will also be made available via teleconference.

Submit comments identified by “Notice-CECANF-2014-04”, by any of the following methods:

• Regulations.gov: http://www.regulations.gov. Submit comments via the Federal eRulemaking portal by searching for “Notice-CECANF-2014-04”. Select the link “Comment Now” that corresponds with “Notice-CECANF-2014-04”. Follow the instructions provided at screen. Please include your name, company name (if any), and “Notice-CECANF-2014-04” on your attached document.

• Mail: Commission to Eliminate Child Abuse and Neglect Fatalities, c/o General Services Administration, Agency Liaison Division, 1800 F St. NW., Room 7003D, Washington DC 20006.

Instructions: Please submit comments only and cite “Notice-CECANF-2014-04” in all correspondence related to this notice. All comments received will be posted without change to http://www.regulations.gov, including any personal and/or business confidential information provided.

FOR FURTHER INFORMATION CONTACT: Visit the CECANF Web site at https://eliminatechildabusefatalities.sites.usa.gov/ or contact Ms. Patricia Brincefield, Communications Director, at 202-818-9596, 1800 F St. NW., Room 7003D, Washington, DC 20006.

SUPPLEMENTARY INFORMATION:

Background: CECANF was established to develop a national strategy and recommendations for reducing fatalities resulting from child abuse and neglect.

Agenda: The purpose of the meeting is for Commission members to gather national and state-specific information regarding child abuse and neglect fatalities. The Commission will hear from researchers and issue experts regarding the scope of the problem, strategies for improving national data collection, policy barriers and opportunities to reduce maltreatment fatalities, confidentiality issues, and potential solutions. Experts from such disciplines as child welfare, law enforcement, health, and public health will present strategies for addressing the issue of child abuse and neglect fatalities.

Attendance at the Meeting: Individuals interested in attending the meeting in person must register in advance because of limited space. To register to attend in person or by phone, please go to https://www.surveymonkey.com/s/PFYVWR3 and follow the prompts. Detailed meeting minutes will be posted within 90 days of the meeting. Interested members of the public may listen to the CECANF discussion by calling 1-866-928-2008, and entering pass code 569839. Members of the public will not have the opportunity to ask questions or otherwise participate in the meeting.

However, members of the public wishing to comment should follow the steps detailed under the heading addresses in this publication or contact us via the CECANF Web site at https://eliminatechildabusefatalities.sites.usa.gov/contact-us/.

Dated: August 5, 2014.
Karen White,
Executive Assistant.

[FR Doc. 2014-19084 Filed 8-11-14; 8:45 am]

BILLING CODE 6820-34-P